POSTAL REGULATORY COMMISSION

[Docket No. CP2012-14; Order No. 1138]

International Mail Contract

AGENCY: Postal Regulatory Commission.

ACTION: Notice.

SUMMARY: The Commission is noticing a recently-filed Postal Service request to enter into an additional Global Reseller Expedited Package contract. This document invites public comments on the request and addresses several related procedural steps.

ADDRESSES: Submit comments electronically by accessing the “Filing Online” link in the banner at the top of the Commission's Web site (http://www.prc.gov) or by directly accessing the Commission's Filing Online system at https://www.prc.gov/prc-pages/filing-online/login.aspx. Commenters who cannot submit their views electronically should contact the person identified in the FOR FURTHER INFORMATION CONTACT section as the source for case-related information for advice on alternatives to electronic filing.

FOR FURTHER INFORMATION CONTACT: Stephen L. Sharfman, General Counsel, at (202) 789-6820 (case-related information) or DocketAdmins@prc.gov (electronic filing assistance).

SUPPLEMENTARY INFORMATION:

Table of Contents

I. Introduction

II. Notice of Filing

III. Ordering Paragraphs

I. Introduction

On January 12, 2012, the Postal Service filed a notice announcing that it has entered into an additional Global Reseller Expedited Package (GREP) contract.¹ The Postal Service believes the instant contract is functionally equivalent to the GREP baseline agreement and is supported by Governors' Decision No. 10-1 attached to the Notice and originally filed in Docket No. CP2010-36. Id. at 2-3, Attachment 3. The Notice explains that Order No. 445, which established GREP Contracts 1 as a product, also authorized functionally equivalent agreements to be included within the product, provided that they meet the requirements of 39 U.S.C. 3633. Id. at 1-2. Additionally, the Postal Service requested to have the contract in Docket No. CP2010-36 serve as the baseline contract for future functional equivalence analyses of the GREP Contracts 1 product.

¹ Notice of United States Postal Service of Filing a Functionally Equivalent Global Reseller Expedited Package Negotiated Service Agreement and Application For Non-Public Treatment of Materials Filed Under Seal, January 12, 2012 (Notice).

The instant contract. The Postal Service filed the instant contract pursuant to 39 CFR 3015.5. In addition, the Postal Service contends that the instant contract is in accordance with Order No. 445. The instant contract is a renewal of the GREP contract, filed in Docket No. CP2011-65, which is scheduled to expire on January 21, 2012. Id. at 1. The Postal Service will notify the mailer of the effective date within 30 days after all necessary regulatory approvals have been received. The contract will remain in effect until June 30, 2014. Id. Attachment 1 at 5. It may, however, be terminated by either party on not less than 30 days' written notice. Id.

In support of its Notice, the Postal Service filed four attachments as follows:

• Attachment 1—a redacted copy of the contract and applicable annexes;

• Attachment 2—a certified statement required by 39 CFR 3015.5(c)(2);

• Attachment 3—a redacted copy of Governors' Decision No. 10-1, which establishes prices and classifications for GREP contracts, a description of applicable GREP contracts, formulas for prices, an analysis of the formulas, and certification of the Governors' vote; and

• Attachment 4—an application for non-public treatment of materials to maintain redacted portions of the contract and supporting documents under seal.

The Notice advances reasons why the instant GREP contract fits within the Mail Classification Schedule language for GREP Contracts 1. The Postal Service identifies general contract terms that distinguish the instant contract from the baseline GREP agreement. It states that the instant contract differs from the contract in Docket No. CP2010-36 pertaining to revisions or clarification of terms, e.g., definition of qualifying mail, discounts offered by the reseller, minimum revenue, periodic review of minimum commitment, term, assignment, number of rate groups, and solicitation of reseller's customers. Id. at 4-6. The Postal Service states that the differences, which include price variations based on updated costing information and volume commitments, do not alter the contract's functional equivalency. Id. at 4. The Postal Service asserts that “[b]ecause the agreement incorporates the same cost attributes and methodology, the relevant characteristics of this GREP contract are similar, if not the same, as the relevant characteristics of the contract filed in Docket No. CP2010-36.” Id. at 4-5.

The Postal Service concludes that its filing demonstrates that the new GREP contract complies with the requirements of 39 U.S.C. 3633 and is functionally equivalent to the baseline GREP contract. It states that the differences do not affect the services being offered or the fundamental structure of the contract. Therefore, it requests that the instant contract be included within the GREP Contracts 1 product. Id. at 5-6.

II. Notice of Filing

The Commission establishes Docket No. CP2012-14 for consideration of matters related to the contract identified in the Postal Service's Notice.

Interested persons may submit comments on whether the Postal Service's contract is consistent with the policies of 39 U.S.C. 3632, 3633, or 3642. Comments are due no later than January 23, 2012. The public portions of this filing can be accessed via the Commission's Web site, http://www.prc.gov.

The Commission appoints James F. Callow to serve as Public Representative in the captioned proceeding.

III. Ordering Paragraphs

It is ordered:

1. The Commission establishes Docket No. CP2012-14 for consideration of matters raised by the Postal Service's Notice.

2. Comments by interested persons in this proceeding are due no later than January 23, 2012.

3. Pursuant to 39 U.S.C. 505, James F. Callow is appointed to serve as the officer of the Commission (Public Representative) to represent the interests of the general public in this proceeding.

4. The Secretary shall arrange for publication of this order in the Federal Register.

By the Commission.
Shoshana M. Grove,
Secretary.

[FR Doc. 2012-1218 Filed 1-20-12; 8:45 am]

BILLING CODE ;P